DEPARTMENT OF HOUSING AND URBAN DEVELOPMENT

[Docket No. FR-4972-N-03]

Notice of Submission of Proposed Information Collection to OMB; Emergency Comment Request; Grant Application for Housing for People Who Are Homeless and Addicted to Alcohol

AGENCY: Office of Community Planning and Development, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: March 24, 2005.

ADDRESSES: Interested persons are invited to submit comments regarding this proposal. Comments must be received within fourteen (14) days from the date of this Notice. Comments should refer to the proposal by name and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; 3-mail Wayne—Eddins@HUD.gov; telephone (202) 708-2374. This is not a toll-free number. Copies of documentation submitted to OMB may be obtained from Mr. Eddins.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology; e.g., permitting electronic submission of responses.

This notice also lists the following information:

Title of Proposal: Grant Application for Housing for People who are Homeless and Addicted to Alcohol.

Description of Information Collection: This is an application for a program that will provide supporting housing assistance to chronically homeless persons who have been living on the streets for at least three hundred sixty-five (365) days over the last five (5) years and have a long-term addiction to alcohol. The information to be collected includes project information, program component and type, number of beds and participants, leasing information and the subpopulations to be assisted. We need to collect this information so that we fully understand the scope of the project and so that the applicant would be eligible to apply for renewal funds through the Continuum of Care process once the grant term expires.

OMB Control Number: To be assigned.

Agency Form Numbers: HUD-40112. Plus standard grant application forms SF 424, HUD-2991, SF-424-SUPP, HUD 27300, HUD-96011, HUD-96010, OMB-SF-LLL, SF-424A.

Members of Affected Public: States, local government, other government agencies, and public and private nonprofit agencies.

Estimation of the total numbers of hours needed to prepare the information collection: No more than 100 applicants are expected to respond to this NOFA, and this will be a one-time collection effort. Program staff determines that it will take approximately ten (10) hours to complete this form.

Status: Proposed new collection.

Authority: The Paper Reduction Act of 1995, 44 U.S.C. Chapter 35, as amended.

Dated: March 4, 2005.
Nelson Bregón,
General Deputy Assistant Secretary, Community Planning and Development.

[FR Doc. 05-4661 Filed 3-9-05; 8:45 am]

BILLING CODE 4210-29-M